DEPARTMENT OF DEFENSE

Office of the Secretary

[Docket ID: DoD-2025-OS-0244]

Submission for OMB Review; Comment Request

AGENCY: Office of the Under Secretary of Defense for Acquisition and Sustainment (OUSD(A&S)), Department of Defense (DoD).

ACTION: 30-Day information collection notice.

SUMMARY: The DoD has submitted to the Office of Management and Budget (OMB) for clearance the following proposal for collection of information under the provisions of the Paperwork Reduction Act.

DATES: Consideration will be given to all comments received by December 26, 2025.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Application for Assignment to Housing, DD Form 1746, OMB Control Number 0704-AFAH.

Type of Request: New.

Number of Respondents: 422,430.

Responses per Respondent: 1.

Annual Responses: 422,430.

Average Burden per Response: 15 minutes.

Annual Burden Hours: 105,608.

Needs and Uses: The DD Form 1746 is used for collection of information and supports DoDs commitment to determine assignment priority categories for housing active-duty service members, eligible civilians, local and Foreign Nationals to family housing on or off base, allows service members to communicate preferences regarding living accommodations, tracks all service members assigned to the installation, and aligns with our administration's priorities, such as reviving our warrior ethos by allowing service members to focus on their warfighter duties and missions, while providing support for family well-being and readiness.

Affected Public: Individuals and households.

Frequency: On occasion.

Respondent's Obligation: Voluntary.

DOD Clearance Officer: Mr. Reginald Lucas.

Dated: November 21, 2025.
Stephanie J. Bost,
Alternate OSD Federal Register Liaison Officer, Department of Defense.

[FR Doc. 2025-21162 Filed 11-25-25; 8:45 am]

BILLING CODE 6001-FR-P